DEPARTMENT OF ENERGY

Federal Energy Regulatory Commission

[Project No. 4814-000]

Watterra Energy, LLC; Notice of Preliminary Permit Application Accepted for Filing and Soliciting Comments, Motions To Intervene, and Competing Applications

On January 5, 2017, Watterra Energy, LLC filed an application for a preliminary permit, pursuant to section 4(f) of the Federal Power Act (FPA), proposing to study the feasibility of the Tuttle Creek Dam Hydroelectric Project (Tuttle Creek Project or project) to be located at the U.S. Army Corps of Engineers' (Corps) Tuttle Creek Dam on the Big Blue River in Manhattan County, Kansas. The sole purpose of a preliminary permit, if issued, is to grant the permit holder priority to file a license application during the permit term. A preliminary permit does not authorize the permit holder to perform any land-disturbing activities or otherwise enter upon lands or waters owned by others without the owners' express permission.

The proposed project would consist of the following all new facilities: (1) An 18-foot-diameter, 800-foot-long steel penstock that bifurcates into one 18-foot-diameter, 60-foot-long steel penstock discharging into an existing stilling basin and one 18-foot-diameter, 250-foot-long steel penstock carrying flows to the project's powerhouse; (2) a bifurcation structure located at the end of the 800-foot-long penstock near an existing stilling basin; (3) a 70-foot-long, 55-foot-wide, 30-foot-high powerhouse located on the south side of the stilling basin; (4) two horizontal Francis turbines each with an installed capacity of 5.93 megawatts (MW) for a total capacity of 11.86 MW; (5) a single generator connected to the two Francis turbines; (6) a 8,200-foot-long, 12.7 kilovolt transmission line interconnecting to an existing distribution system using an existing substation; and (7) appurtenant facilities. The estimated annual generation of the Tuttle Creek Project would be 64,643 megawatt-hours.

Applicant Contact: Mr. Craig Dalton, 7100 Commercial Avenue, Suite 4, Billings, MT 59101; Email: cdalton@watterraenergy.com; phone: (406) 384-0080.

FERC Contact: Sergiu Serban; Email: sergiu.serban@ferc.gov; phone: (202) 502-6211.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14814-000.

More information about this project, including a copy of the application, can be viewed or printed on the “eLibrary” link of the Commission's Web site at http://www.ferc.gov/docs-filing/elibrary.asp. Enter the docket number (P-14814) in the docket number field to access the document. For assistance, contact FERC Online Support.

Dated: February 10, 2017.
Kimberly D. Bose,
Secretary.

[FR Doc. 2017-03155 Filed 2-16-17; 8:45 am]

BILLING CODE 6717-01-P